Proclamation 10730 of April 19, 2024

National Crime Victims' Rights Week, 2024

By the President of the United States of America

A Proclamation

Each year, millions of Americans become victims of crime and acts of violence. During National Crime Victims' Rights Week, we recommit to pursuing justice for victims and providing them with the support and resources needed to heal from the emotional, psychological, physical, and financial scars of those traumatic experiences. We continue our work to prevent crime before it occurs. Every American deserves to know that they, their families, and their communities are safe and free from violence and crime.

Since I first came to office, my Administration has been working tirelessly with law enforcement, crime victims, and other community leaders across the country to keep Americans safe. Together, we have made historic progress. Last year, the United States had one of the lowest rates of all violent crime in more than 50 years. Murder, rape, aggravated assault, and robbery all dropped sharply, as did burglary, property crime, and theft.

Reducing violence and crime is a top priority for my Administration. We helped cities, counties, and States invest over $15 billion in fighting crime and preventing violence. We made the largest-ever Federal investment in public safety, enabling law enforcement to better serve their communities—helping to keep everyone safe. Our investment also has been used to implement proven crime-prevention strategies like community violence intervention programs that leverage community leaders and formerly incarcerated people to work with young people and those at most risk of violence, intervening before it is too late with culturally competent strategies.

As a United States Senator, I supported the law that established the Crime Victims Fund, which directly compensates victims and finances victim assistance services. As President, I signed a law to replenish and strengthen the fund so that victims can continue to access the resources they need.

My Administration is also supporting survivors of gender-based violence. As a Senator, I wrote the Violence Against Women Act (VAWA), which brought survivors' stories into the forefront of the American consciousness and combatted the scourge of gender-based violence in America. VAWA has helped fund helplines, shelters, and rape crisis centers; offered survivors housing and legal assistance; and trained law enforcement agencies and courts on ways the justice system could better assist survivors of gender-based violence. When we reauthorized VAWA in 2022, we expanded Tribal courts' jurisdiction so that non-Native perpetrators of sexual assault, sex trafficking, stalking, and child abuse can be prosecuted for the crimes they commit on Tribal lands. VAWA newly empowered individuals whose intimate visual images are disclosed without their consent to take perpetrators to court through a Federal civil cause of action. This year, I worked with the Congress to increase VAWA's funding to its highest level in history. Now, more survivors have access to trauma-informed care, including those in the LGBTQI+ community and from rural areas. Additionally, I have spearheaded historic military justice reforms to better protect victims of crime in our military and ensure that prosecutorial decisions in cases of gender-based violence are fully independent from the chain of command.

To address the gun violence epidemic in America, I signed the Bipartisan Safer Communities Act, the most significant gun safety law in nearly 30 years. It helps prevent domestic abusers from purchasing guns, tackles gun trafficking, provides funding for implementation of red flag laws, expands background checks, and strengthens crisis intervention programs and youth mental health programs. I also formed the first-ever White House Office of Gun Violence Prevention and my Administration has taken more executive actions to stop the flow of illegal guns than any other Administration in history. This new office is coordinating the first centralized Federal response to mass shootings and surges in gun violence in order to help victims and communities address the economic, physical, and emotional effects of gun violence.

Additionally, my Administration is cracking down on hate-fueled violence. Early on, I signed into law the COVID-19 Hate Crimes Act that includes the Khalid Jabara-Heather Heyer NO HATE Act. These legislative actions help government agencies track and prosecute hate-fueled acts of violence against people from marginalized groups and establish State-run hotlines through which victims can report hate crimes. For the first time in history, we made lynching a Federal hate crime through the Emmett Till Antilynching Act. We also hosted the first-of-its-kind United We Stand Summit—bringing together civic, faith, philanthropic, and business leaders to ensure that hate has no safe harbor in America.

I also signed a historic Executive Order to advance effective and accountable community policing and strengthen trust between law enforcement and the communities they serve. My Administration provided States billions of dollars to purchase body-worn cameras, reduce court backlogs, and support crime victims. We are investing in more crisis responders who are able to de-escalate situations and respond to non-violent crimes. In addition, we are hiring more Federal prosecutors so justice for victims is not delayed, recruiting more United States Marshals to apprehend violent fugitives, and investing in better technology and training to clear court backlogs and solve murders.

This National Crime Victims' Rights Week, as each of us asks, “How should I help?” let us recommit to doing all we can to prevent crime and violence, support victims and help them secure the justice and healing they deserve, and make our Nation safer and more secure for all Americans. For more information on the rights of crime victims, visit Crimevictims.gov.

NOW, THEREFORE, I, JOSEPH R. BIDEN JR., President of the United States of America, by virtue of the authority vested in me by the Constitution and the laws of the United States, do hereby proclaim April 21 through April 27, 2024, as National Crime Victims' Rights Week. I call upon all Americans to observe this week by participating in events that raise awareness of victims' rights and services and by volunteering to serve and support victims in their time of need.

IN WITNESS WHEREOF, I have hereunto set my hand this nineteenth day of April, in the year of our Lord two thousand twenty-four, and of the Independence of the United States of America the two hundred and forty-eighth.

[FR Doc. 2024-08908

Filed 4-23-24; 8:45 am]

Billing code 3395-F4-P